DEPARTMENT OF AGRICULTURE

Submission for OMB Review; Comment Request

January 5, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Federal Excess Personal Property and Firefighter Property Cooperative Agreements.

OMB Control Number: 0596-NEW.

Summary of Collection: Federal Excess Personal Property (FEPP) and Firefighter Property (FFP) Program Cooperative Agreements programs provide State forestry agencies the opportunity to obtain excess Department of Defense and other Federal agencies equipment and supplies to be used in firefighting and emergency services. The authority to provide excess supplies to State agencies comes from Federal Property and Administration Services Act of 1949, 40 U.S.C., Sec 202. Authority to loan excess supplies comes from 10 U.S.C., Subtitle A, Part IV, Chapter 153, 2576b grants the authority for the FFP.

Need and Use of the Information: Each State designates an Accountable Officer who is responsible for the integrity of the program within their respective State and completing the necessary documentation for each program in which the State participates. For this reason FEPP and FFP collects the State forestry agency contact information and the information of the Accountable Officer. Cooperative Agreement forms FS-3100-10 and/or FS-3100-11 are used to collect the required information from the participating State agency that outlines the requirements and rules for the cooperation. Participating State agencies must submit separate agreements if they desire to participate in both programs.

Description of Respondents: State and local government.

Number of Respondents: 20.

Frequency of Responses: Recordkeeping; Reporting: Annual.

Total Burden Hours: 60.

Charlene Parker,
Departmental Information Collection Clearance Officer.

[FR Doc. 2011-226 Filed 1-7-11; 8:45 am]

BILLING CODE P